DEPARTMENT OF HEALTH AND HUMAN SERVICES

Centers for Disease Control and Prevention

Guide to Community Preventive Services (GCPS) Task Force

In accordance with section 10(a)(2) of the Federal Advisory Committee Act (Pub. L. 92-463), the Centers for Disease Control and Prevention (CDC) announces the following meeting:

Name: Task Force on Community Preventive Services.

Times and Dates: 8 a.m.-7 p.m., February 16, 2005. 8 a.m.-1 p.m., February 17, 2005.

Place: The Hyatt Regency Atlanta, 265 Peachtree Street, Atlanta, Georgia 30303-1294, telephone (404) 577-1234.

Status: Open to the public, limited only by the space available.

Purpose: The mission of the Task Force is to develop and publish a Guide to Community Preventive Services, which is based on the best available scientific evidence and current expertise regarding essential public health and what works in the delivery of those services.

Matters To Be Discussed: Agenda items include: briefings on administrative information, release of the Community Guide book, dissemination of Community Guide findings and the book, work with the Campbell and Cochrane Collaborations, using reviews conducted by external groups to support Community Guide recommendations, update on collaborative review of HIV risk reduction for men who have sex with men (MSM), possible recommendations for HIV partner counseling and referral services (PCRS), reducing the harmful consequences of trauma among juveniles, one-on-one interventions and multi-component media to increase cancer screening, culturally competent health care systems, update and finalizing of recommendation outcomes for the alcohol reviews.

Agenda items are subject to change as priorities dictate.

Persons interested in reserving a space for this meeting should call 404/498-6180 by close of business on February 9, 2005.

Contact Person or Additional Information: Peter Briss, M.D., Chief, Community Guide Branch, Coordinating Center for Health Information and Service, National Center for Health Marking, Division of Prevention Research, 1600 Clifton Road, M/S E-90, Atlanta, GA 30333 (404) 498-6180.

The Director, Management Analysis and Services Office has been delegated the authority to sign Federal Register notices pertaining to announcements of meetings and other committee management activities for both the Centers for Disease Control and Prevention and the Agency for Toxic Substances and Disease Registry.

Dated: January 31, 2005.
Alvin Hall,
Director, Management Analysis and Services Office, Centers for Disease Control and Prevention.

[FR Doc. 05-2143 Filed 2-3-05; 8:45 am]

BILLING CODE 4163-18-P